DEPARTMENT OF COMMERCE

International Trade Administration

[A-580-816]

Certain Corrosion-Resistant Carbon Steel Flat Products from the Republic of Korea; Notice of Amended Final Results of the Twelfth Administrative Review

AGENCY: Import Administration, International Trade Administration, Department of Commerce.

SUMMARY: On March 20, 2007, the Department of Commerce (the Department) published its final results of the twelfth administrative review for certain corrosion-resistant carbon steel flat products (CORE) from the Republic of Korea (Korea) for the period from August 1, 2004, through July 31, 2005. We are amending our final results to correct a ministerial error made in the calculation of the dumping margin for Union Steel Manufacturing Co., Ltd. (Union), pursuant to section 751 (h) of the Tariff Act of 1930, as amended (the Act).

EFFECTIVE DATE: April 26, 2007.

FOR FURTHER INFORMATION CONTACT: Jolanta Lawska, AD/CVD Operations, Office 3, Import Administration, International Trade Administration, U.S. Department of Commerce, 14th Street and Constitution Avenue NW, Washington, DC 20230; telephone: (202) 482-8362.

SUPPLEMENTARY INFORMATION:

Background

On March 20, 2007, the Department published its final results of the twelfth administrative review for CORE from Korea for the period from August 1, 2004, through July 31, 2005. See Notice of Final Results of the Twelfth Administrative Review of the Antidumping Duty Order on Certain Corrosion-Resistant Carbon Steel Flat Products from the Republic of Korea, 72 FR 13086 (March 20, 2007) (Final Results), and accompanying Issues and Decision Memorandum from Stephen J. Claeys, Deputy Assistant Secretary for Import Administration, to David M. Spooner, Assistant Secretary for Import Administration.

On March 20, 2007, pursuant to 19 CFR 351.224(c), United States Steel Corporation (U.S. Steel) submitted comments alleging a ministerial error, and requesting that the Department correct this alleged ministerial error. Specifically, U.S. Steel alleged that the Department failed to use Union's actual weight-based gross unit price in calculating the dumping margin.

Scope of the Order

This order covers cold-rolled (cold-reduced) carbon steel flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this order are corrosion-resistant flat-rolled products of non-rectangular cross-section where such cross-section is achieved subsequent to the rolling process (i.e., products which have been “worked after rolling”) - for example, products which have been beveled or rounded at the edges. Excluded from this order are flat-rolled steel products either plated or coated with tin, lead, chromium, chromium oxides, both tin and lead (“terne plate”), or both chromium and chromium oxides (“tin-free steel”), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%%-60%%-20%% ratio. These HTSUS item numbers are provided for convenience and customs purposes. The written descriptions remain dispositive.

Amended Final Results of Review

After analyzing U.S. Steel's comments, we have determined, in accordance with section 751(h) of the Act and 19 CFR 351.224, that the Department has made a ministerial error in the final results calculation for Union in this administrative review. For a detailed discussion of the ministerial error, see Memorandum from Jolanta Lawska to James Terpstra, re: Amended Final Results in the 04/05 Administrative Review on Corrosion-Resistant Carbon Steel Flat Products from Korea, at page 2, dated April 4, 2007 (Ministerial Error Memo).

Therefore, in accordance with section 751(h) of the Act, we are amending the final results of the antidumping duty administrative review of CORE from Korea for the period August 1, 2004, to July 31, 2005. As a result of correcting the ministerial error discussed in the Ministerial Error Memo, Union's weighted-average dumping margin increased from 1.45 percent to 1.46 percent. For the remaining respondents, the weighted-average dumping margins remain the same. See Final Results.

Duty Assessment and Cash Deposit Requirements

The Department will determine, and U.S. Customs and Border Protection (CBP) shall assess, antidumping duties on all appropriate entries. The Department intends to issue assessment instructions directly to CBP 15 days after the date of publication of the amended final results of this review, where injunctions are not in place.

Further, the following cash-deposit requirements will be effective upon publication of these final amended results of the administrative review for shipments of the subject merchandise entered, or withdrawn from warehouse, for consumption on or after the publication date of these final amended results, as provided by section 751(a)(2)(C) of the Act: (1) for subject merchandise exported by Union, the cash-deposit rate will be 1.46 percent (2) for Dongbu Steel Co., Ltd., Hyundai HYSCO, and Pohang Iron & Steel Company, Ltd., the cash deposit rate will remain as established in the Final Results. These deposit requirements shall remain in effect until further notice.

These amended final results of administrative review and notice are issued and published in accordance with sections 751(a)(1) and (h), and 777(i)(1) of the Act, and 19 CFR 351.224.

Dated: April 19, 2007.
Joseph A. Spetrini,
Deputy Assistant Secretary for Import Administration.

[FR Doc. E7-8016 Filed 4-25-07; 8:45 am]

BILLING CODE 3510-DS-S